FEDERAL COMMUNICATIONS COMMISSION

47 CFR Part 101

[WT Docket No. 09-114; RM-11417; FCC 10-109]

Amendment of the Commission's Rules to Accommodate 30 Megahertz Channels in the 6525-6875 MHz Band; and to Provide for Conditional Authorization on Additional Channels in the 21.8-22.0 GHz and 23.0-23.2 GHz Band

Correction

In rule document 2010-17205 beginning on page 41767 in the issue of Monday, July 19, 2010, make the following corrections:

§101.147 [Corrected]

On page 41771, in §101.147, in the third column, the tables are corrected to read as set forth below:

* * * * *

(s) * * *

Transmit (receive) (MHz) | Receive (transmit) (MHz)
(3) 10 MHz bandwidth channels:
* * * * *
22025 ² | 23225 ²
* * * * *
22075 ² | 23275 ²
* * * * *

* * * * *

Transmit (receive) (MHz) | Receive (transmit) (MHz)
(7) 50 MHz bandwidth channels:
* * * * *
22025 ² | 23225 ²
22075 ² | 23275 ²
* * * * *
² These frequencies may be assigned to low power systems, as defined in paragraph (8) of this section.

* * * * *

[FR Doc. C1-2010-17205 Filed 8-2-10; 8:45 am]

BILLING CODE 1505-01-D